NATIONAL AERONAUTICS AND SPACE ADMINISTRATION

[Notice (05-149)]

Notice of Intent To Grant Partially Exclusive License

AGENCY: National Aeronautics and Space Administration.

ACTION: Notice of intent to grant partially exclusive license.

SUMMARY: This notice is issued in accordance with 35 U.S.C. 209(c)(1) and 37 CFR 404.7(a)(1)(i). NASA hereby gives notice of its intent to grant a partially exclusive license in the United States to practice the inventions described and claimed in U.S. Patent Nos. 5,153,131, entitled “High Aspect Reactor Vessel and Method of Use”; 5,153,132, entitled “Three-Dimensional Co-culture Process”; 5,153,133, entitled “Method for Culturing Mammalian Cells in a Horizontally Rotated Bioreactor”; 5,155,034, entitled “Three Dimensional Cell to Tissue Assembly Process”; 5,155,035, entitled “ Method for Culturing Mammalian Cells in a Perfused Bioreactor”; 5,308,764, entitled “Multi-Cellular Three-Dimensional Living Mammalian Tissue”; 5,496,722, entitled “Method for Producing Non-neoplastic, Three-dimensional, Mammalian Tissue and Cell Aggregates under Microgravity Culture Conditions and the Products Produced Therefrom”; 5,627,021, entitled “Three-Dimensional Co-Culture Process”; 5,637,477, entitled “Recombinant Protein Production and Insect Cell Culture and Process”; 5,846,807, entitled “Media Compositions for Three-dimensional Mammalian Tissue Grown under Microgravity Culture Conditions”; 5,851,816, entitled “Cultured High-Fidelity Three-Dimensional Human Urogenital Tract Carcinomas and Process”; 5,858,783, entitled “Production of Normal Mammalian Organ Culture Using a Medium Containing MEM-alpha, Leibovitz L-15, Glucose Galactose Fructose”; 5,962,324, entitled “Three Dimensional Optic Tissue Culture and Process”; 6,177,674, entitled “Pathogen Propagation in Cultured Three-Dimensional Tissue Mass”; 6,485,963, entitled “Growth Stimulation of Biological Cells and Tissue by Electromagnetic Fields and Uses Thereof”, 6,673,597, entitled “Growth Stimulation of Biological Cells and Tissue by Electromagnetic Fields and Uses Thereof”; 6,730,498, entitled “Production of Functional Proteins: Balance of Shear Stress and Gravity”; 6,946,246, entitled “Production of Functional Proteins: Balance of Shear Stress and Gravity”, and U.S. Patent Application Serial Number 10/734,759, entitled “Production of Functional Proteins: Balance of Shear Stress and Gravity”, U.S. Patent Application Serial Number 10/947,786, entitled “Production of Functional Proteins: Balance of Shear Stress and Gravity”, to Renautus Bio Therapeutics, LLC, having its principal place of business in Baton Rouge, LA. The patent rights in the inventions have been assigned to the United States of America as represented by the Administrator of the National Aeronautics and Space Administration. The prospective partially exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will be treated as objections to the grant of the contemplated partially exclusive license.

Objections submitted in response to this notice will not be made available to the public for inspection and, to the extent permitted by law, will not be released under the Freedom of Information Act, 5 U.S.C. 552.

ADDRESSES: Objections relating to the prospective license may be submitted to Patent Counsel, Office of Chief Counsel, Johnson Space Center, Mail Code AL, 2101 NASA Parkway, Houston, Texas 77058.

FOR FURTHER INFORMATION CONTACT: Kurt G. Hammerle, Patent Attorney, NASA Johnson Space Center, Mail Stop AL, Houston, TX 77058-8452, Telephone: (281) 483-1001, Facsimile: (281) 483-6936. Information about other NASA inventions available for licensing can be found online at http://technology.nasa.gov/.

Dated: October 26, 2005.
Keith T. Sefton,
Deputy General Counsel, Administration and Management.

[FR Doc. 05-21897 Filed 11-2-05; 8:45 am]

BILLING CODE 7510-13-P